DEPARTMENT OF LABOR

Mine Safety and Health Administration

30 CFR Parts 5, 15, 18, 19, 20, 22, 23, 27, 28, 33, 35, and 36

RIN 1219-AB38

Fees for Testing, Evaluation, and Approval of Mining Products; Correction

AGENCY: Mine Safety and Health Administration (MSHA), Labor.

ACTION: Direct final rule; correction.

SUMMARY: This document corrects a direct final rule published in the Federal Register of August 9, 2005, regarding fees for testing, evaluation, and approval of mining products.

DATES: Effective on August 22, 2005.

FOR FURTHER INFORMATION CONTACT: Rebecca J. Smith, Acting Director, Office of Standards, Regulations, and Variances, MSHA, 1100 Wilson Blvd., Room 2313, Arlington, Virginia 22209-3939, smith-rebecca@dol.gov, (202) 693-9440 (telephone), (202) 693-9441 (facsimile).

SUPPLEMENTARY INFORMATION: In rule FR Doc. 05-15495 published on August 9, 2005 (70 FR 46336), make the following corrections:

1. On page 46336, in the first column, under ADDRESSES, change the e-mail address from “comments@msha.gov” to “zzmsha-comments@dol.gov”.

2. On page 46337, in the third column, in the second full paragraph, in the second sentence, change the word “revised” to “existing”.

3. On page 46338, in the first column, in the first full paragraph, in the sixth sentence, change the term “part 5” to “part 15”.

§ 5.30 [Corrected]

4. On page 46342, in the second column, after the rule text of paragraph (d), remove the five asterisks.

§ 22.4 [Corrected]

5. On page 46343, in the first column, in the first sentence of the rule text for § 22.4(a), change the term “the active investigation of” to “an active investigation”.

§ 23.3 [Corrected]

6. On page 46343, in the second column, in the first sentence of the rule text for § 23.3(a), change the term “the active investigation of” to “an active investigation”.

§ 33.3 [Corrected]

7. On page 46343, in the third column, after the rule texts for § 33.3, remove the five asterisks.

Dated: August 16, 2005.
Robert M. Friend,
Acting Deputy Assistant Secretary.

[FR Doc. 05-16560 Filed 8-19-05; 8:45 am]

BILLING CODE 4510-43-P